DEPARTMENT OF TRANSPORTATION

Federal Aviation Administration

Fifth Meeting: Special Committee 230 (SC 230)

AGENCY: Federal Aviation Administration (FAA), U.S. Department of Transportation (DOT).

ACTION: Fifth Meeting Notice of Special Committee 230.

SUMMARY: The FAA is issuing this notice to advise the public of the fifth meeting of the Special Committee 230.

DATES: The meeting will be held September 29th-October 1st from 10:00 a.m.-1:00 p.m.

ADDRESSES: The meeting will be held at RTCA Headquarters—WEBEX Meeting, 1150 18th Street NW., Suite 910, Washington, DC 20036, Tel: (202) 330-0663.

FOR FURTHER INFORMATION CONTACT: The RTCA Secretariat, 1150 18th Street NW., Suite 910, Washington, DC 20036, or by telephone at (202) 833-9339, fax at (202) 833-9434, or Web site at http://www.rtca.org or Sophie Bousquet, Program Director, RTCA, Inc., sbousquet@rtca.org, (202) 330-0663.

SUPPLEMENTARY INFORMATION: Pursuant to section 10(a)(2) of the Federal Advisory Committee Act (Pub. L. 92-463, 5 U.S.C., App.), notice is hereby given for a meeting of the Special Committee 230. This Plenary will be a WebEx meeting. For those wishing to attend in person at RTCA, a room will be reserved. The agenda will include the following:

Tuesday, September 29, 2015

1. Welcome/Introductions/Administrative Remarks

2. Agenda Overview

3. Meeting #4 Minutes approval

4. Review of final findings from DO-220

Wednesday, September 30, 2015

1. Review findings from DO-213 draft

Thursday, October 1, 2015

1. Review findings from DO-213 draft

2. Action item review

3. Approval/release of Revisions to DO-220 and DO-213 for Final Review and Comments (FRAC)

4. Date and Place of Next Meeting

5. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 14, 2015.
Latasha Robinson,
Management & Program Analyst, NextGen, Program Oversight and Administration, Federal Aviation Administration.

[FR Doc. 2015-17508 Filed 7-15-15; 8:45 am]

BILLING CODE 4910-13-P